DEPARTMENT OF HEALTH AND HUMAN SERVICES

Centers for Disease Control and Prevention

[60Day-18-18FJ; Docket No. CDC-2018-0011]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Evaluation of the Chronic Disease Self-Management in the US Affiliated Pacific Islands. This project will assess participant satisfaction, health behavior, and overall health before and after a six-week Chronic Disease Self-Management workshop.

DATES: CDC must receive written comments on or before April 3, 2018.

ADDRESSES: You may submit comments, identified by Docket No. CDC-2018-00011 by any of the following methods:

• Federal eRulemaking Portal: Regulations.gov. Follow the instructions for submitting comments.

• Mail: Leroy A. Richardson, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evaluation of the Chronic Disease Self-Management Program in the US Affiliated Pacific Islands—New—National Center for Chronic Disease Prevention and Health Promotion (NCCDPHP), Centers for Disease Control and Prevention (CDC).

Background and Brief Description

NCCDPHP plans to evaluate the first ever implementation of Stanford University's Chronic Disease Self-Management Program (CDSMP) in the US Affiliated Pacific Islands (USAPIs). These jurisdictions include American Samoa, Guam, the Commonwealth of the Northern Mariana Islands, the Republic of Palau, the Republic of the Marshall Islands, and the Federated States of Micronesia.

The purpose of the evaluation is to understand how CDSMP is being implemented in the region, to identify barriers and facilitators to implementation, to monitor fidelity to Stanford University's model and document adaptations to the curriculum, and to understand the self-reported effects of the program on program participants.

Evaluating the implementation of CDSMP in the Pacific is important because there is a lack of evidence-based chronic disease prevention and management programs in the USAPIs. CDSMP has proven to improve health outcomes in many ethnic groups within the United States, however, we are unsure whether the same health outcomes will be achieved within the USAPIs. The data collected for this evaluation will help the CDC assess the effect of CDSMP on health outcomes in the USAPIs and to understand whether the CDSMP curriculum needs to be adapted to meet the cultural needs of the USAPIs and if it is feasible to expand the CDSMP program in the USAPIs.

In this evaluation, program participants (people who are enrolled in six-week CDSMP workshops) will be asked to fill out the following voluntary surveys:

• Chronic Disease Self-Management Workshop Evaluation Form: This is a survey to assess program participant satisfaction with CDSMP. The survey will be administered once at the end of the six-week CDSMP workshop.

• Chronic Disease Self-Management Questionnaire: This is a pre- and post-test for program participants to assess chronic disease related symptoms and health behaviors before CDSMP and at the end of the six-week workshop. The survey will be administered once at the start of the six-week workshop and once at the end of the six-week workshop. The pre-test surveys and the post-test survey results will be compared.

Program participants will voluntarily complete three surveys over the course of the six-week CDSMP workshop. We anticipate collecting surveys over a three-year period, or 36 months.

The CDC will provide CDSMP leaders in the USAPIs with surveys. CDSMP leaders will administer the voluntary paper-based surveys to participants during the workshops, collect the surveys, and submit the surveys to the CDC.

CDSMP leaders will store surveys in a locked cabinet only accessible to them. They will scan the survey in a secure location on a dedicated server only accessible to the CDSMP leader. The server will have a firewall. CDSMP leaders will encrypt and submit electronic copies of the survey to the CDC.

CDC will maintain the surveys and abstracted data in secure location on a dedicated server only accessible by the evaluation staff, the program coordinator, and the program assistant. The server will have a firewall. Data will be aggregated and the aggregated data will be used and shared with stakeholders.

Data will not be collected from participants electronically because computers and other electronic data collection methods will not be available at the six-week workshops.

The information collection will involve approximately 190 respondents for a total cost of $19,501. The estimated cost to participants is $570. There are a total of three responses, or three surveys, per respondent. Each response will take 10 minutes to complete. The estimated time burden is 95 hours. We do not anticipate capital and start-up costs to respondents and record keepers. We expect an operation and maintenance cost for record keepers, who will print surveys and provide pens for program participants to fill out the survey, which will cost $11.40 for paper and $25 for pens.

Estimated Annualized Burden Hours
Type of respondents | Form name | Number of respondents | Number of responses per respondent | Average burden per response (in hours) | Total burden (in hours)
Program Participant | Chronic Disease Self-Management Workshop Evaluation | 190 | 1 | 10/60 | 32
Program Participant | Chronic Disease Self-Management Questionnaire (Pre-Post Test) | 190 | 2 | 10/60 | 63
Total |  |  |  |  | 95

Leroy A. Richardson,
Chief, Information Collection Review Office, Office of Scientific Integrity, Office of the Associate Director for Science, Office of the Director, Centers for Disease Control and Prevention.

[FR Doc. 2018-02134 Filed 2-1-18; 8:45 am]

BILLING CODE 4163-18-P